DEPARTMENT OF HOUSING AND URBAN DEVELOPMENT

[Docket No. FR-4837-D-19]

Revocation and Delegation of Authority Under Title VI of the Civil Rights Act of 1964

AGENCY: Office of the Secretary, HUD.

ACTION: Notice of revocation and delegation of authority.

SUMMARY: The Secretary of HUD is delegating to the Assistant Secretary for Fair Housing and Equal Opportunity (FHEO) all authority, with a noted exception, to act as the “responsible Department official” in all matters relating to the carrying out of the requirements of Title VI of the Civil Rights Act of 1964, as this authority is provided in HUD's regulations. In this notice the Secretary delegates to the Assistant Secretary for Public and Indian Housing the authority to approve tenant selection and assignment plans of local housing authorities. The Secretary revokes all prior delegations of this authority made by the Secretary.

EFFECTIVE DATE: July 7, 2003.

FOR FURTHER INFORMATION CONTACT: Karen A. Newton, Deputy Assistant Secretary for Operations and Management, Office of Fair Housing and Equal Opportunity, Department of Housing and Urban Development, 451 Seventh Street, SW., Room 5128, Washington, DC 20410-0001, telephone (202) 708-0768. (This is not a toll-free number.) Hearing- and speech-impaired individuals may access this number through TTY by calling the toll-free Federal Information Relay Service at (800) 877-8339.

SUPPLEMENTARY INFORMATION: By previous delegation (36 FR 8821, May 13, 1971), the Secretary delegated to the Assistant Secretary for Equal Opportunity (now the Assistant Secretary for FHEO) the authority to act as the “responsible Department official” in all matters relating to the carrying out of the requirements of Title VI of the Civil Rights Act of 1964 (42 U.S.C. 2000d-1), as this authority was provided at the time in HUD's regulations in 24 CFR parts 1 and 2, except with respect to the approval of tenant selection and assignment plans of local housing authorities, as provided in 24 CFR 1.4(b)(2)(ii). By the same notice, the authority under 24 CFR 1.4(b)(2)(ii) was delegated to the Assistant Secretary for Housing Management (now the Assistant Secretary for Public and Indian Housing).

The Secretary revokes all prior delegations of this authority, retains the authority under Title VI of the Civil Rights Act of 1964 and the corresponding regulations in 24 CFR part 1, and delegates the authority to act as the “responsible Department official” to the Assistant Secretary for FHEO.

Accordingly, the Secretary delegates authority as follows:

Section A. Authority Delegated

The Secretary of HUD delegates to the Assistant Secretary for FHEO all authority to act as the “responsible Department official” as provided in 24 CFR part 1, “Nondiscrimination in Federally Assisted Programs of the Department of Housing and Urban Development—tenant selection and assignment plans of local housing authorities, as provided in 24 CFR 1.4(b)(2)(ii). The Secretary of HUD delegates to the Assistant Secretary for Public and Indian Housing the authority to approve tenant selection and assignment plans of local housing authorities, as provided in 24 CFR 1.4(b)(2)(ii).

Section B. Authority Revoked

All prior delegations of authority made by the Secretary under Title VI of the Civil Rights Act of 1964, including the delegation of authority published on May 13, 1971 (36 FR 8821), are revoked.

Section C. Authority To Redelegate

The Assistant Secretary for FHEO may redelegate the authority to act as the “responsible Department official” under 24 CFR part 1 to the General Deputy Assistant Secretary for FHEO, to the Deputy Assistant Secretary for Enforcement and Programs, to the Director of Enforcement, and to the FHEO Hub Directors. The Assistant Secretary for FHEO may also authorize successive redelegations. The Assistant Secretary for FHEO may not redelegate the authority to issue or waive regulations.

Authority: Section 7(d) of the Department of Housing and Urban Development Act (42 U.S.C. 3535(d)).

Dated: July 7, 2003.
Mel Martinez,
Secretary.

[FR Doc. 03-18361 Filed 7-18-03; 8:45 am]

BILLING CODE 4210-32-P